NATIONAL SCIENCE FOUNDATION

Advisory Committee for Mathematical and Physical Sciences; Notice of Meeting

In accordance with the Federal Advisory Committee Act (Pub. L. 92-463, as amended), the National Science Foundation (NSF) announces the following meeting:

Name and Committee Code: Advisory Committee for Mathematical and Physical Sciences (#66).

Date and Time: November 3, 2021; 11:15 a.m.-4:45 p.m.; November 4, 2021; 11:20 a.m.-5:00 p.m.

Place: NSF, 2415 Eisenhower Avenue, Alexandria, VA 22314 (Virtual attendance only).

To attend the virtual meeting, please send your request for the virtual meeting link to Michelle Bushey at the following email address: mbushey@nsf.gov.

Type of Meeting: Open.

Contact Person: Leighann Martin, National Science Foundation, 2415 Eisenhower Avenue, Room C 9000, Alexandria, Virginia 22314; Telephone: 703/292-4659.

Summary of Minutes: Minutes and meeting materials will be available on the MPS Advisory Committee website at http://www.nsf.gov/mps/advisory.jsp or can be obtained from the contact person listed above.

Purpose of Meeting: To provide advice, recommendations and counsel on major goals and policies pertaining to MPS programs and activities.

Agenda

Wednesday, November 3, 2021

• Call to Order and Official Opening of the Meeting

• Approval of Prior Meeting Minutes—Catherine Hunt, MPSAC Chair

• MPS Update by Assistant Director

• Science Highlight

• MPS and the Living World Subcommittee Report Out and discussion

• Biotech discussion with MPS and BIO AC members

• Discussion with the AC: TIP

• Facilities and Infrastructure Subcommittee Report Out

• Facilities and Infrastructure Subcommittee: New Charge

• Preparation for discussion with NSF Director and COO

• Closing remarks and adjourn day 1

Thursday, November 4, 2021

• Login and register

• Welcome and Overview of Agenda

• Canvassing Committee Reflections

• LEAPS and Ascend Panels

• CEOSE Outbrief

• White paper discussions: Climate Change, Broadening Participation, and Clean Energy

• Astro 2020 Report Update

• Preparation for discussion with NSF Director and COO

• Meeting and discussion with NSF Director and COO

• Closing remarks and adjourn

Dated: September 29, 2021.
Crystal Robinson,
Committee Management Officer.

[FR Doc. 2021-21607 Filed 10-4-21; 8:45 am]

BILLING CODE 7555-01-P